DEPARTMENT OF TRANSPORTATION

Federal Transit Administration

[FTA Docket No. FTA 2022-0002]

National Transit Database Census Reporting Clarifications

AGENCY: Federal Transit Administration, Department of Transportation (DOT).

ACTION: Notice; Request for comments.

SUMMARY: This notice provides interested parties with the opportunity to comment on changes to the Federal Transit Administration's (FTA) National Transit Database (NTD) reporting requirements as they relate to Urbanized Areas (UZA). Each year, transit systems use data from the Census Bureau to update their basic information (B-10) form indicating what urbanized areas and rural areas they serve, and also to complete their Federal Funding Allocation (FFA-10) form distributing their service data across those urbanized and rural areas. The Census Bureau is expected to define new UZAs based on 2020 Census data in calendar year 2022. FTA proposes that for NTD Report Year 2021 (RY 2021), transit systems would be required to complete a B-10 and FFA-10 form based on the UZAs from the 2010 Census, as usual. If the Census Bureau releases new UZAs prior to October 1, 2022, then transit systems would be required to complete new B-10 and FFA-10 forms as an addendum to the annual report at that time.

DATES: Comments are requested by February 18, 2022. FTA will consider all comments received before the close of business on the comment closing date. To the extent practicable, FTA may also consider comments received after that date.

ADDRESSES: You may file comments identified by docket number FTA-2022-0002 by any of the following methods:

• Federal eRulemaking Portal: Go to https://www.regulations.gov and follow the online instructions for submitting comments.

• Mail: Send comments to Docket Management Facility; U.S. Department of Transportation, 1200 New Jersey Avenue SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: Fax comments to Docket Management Facility, U.S. Department of Transportation, at (202) 493-2251.

Instructions: You must include the agency name (Federal Transit Administration) and Docket Number (FTA-2022-0002) for this notice, at the beginning of your comments. If sent by mail, submit two copies of your comments.

Electronic Access and Filing: This document and all comments received may be viewed online through the Federal eRulemaking portal at http://www.regulations.gov or at the street address listed above. Electronic submission and retrieval help and guidelines are available on the website. It is available 24 hours each day, 365 days a year. Please follow the instructions. An electronic copy of this document may also be downloaded from the Office of the Federal Register's home page at https://www.federalregister.gov.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/ privacy.

FOR FURTHER INFORMATION CONTACT: Thomas Coleman, National Transit Database Program Manager, FTA Office of Budget and Policy, (202) 366-5333, thomas.coleman@dot.gov.

SUPPLEMENTARY INFORMATION: The National Transit Database (NTD) is the Federal Transit Administration's (FTA's) primary database for statistics on the transit industry. Each year, transit systems use data from the Census Bureau to update their basic information (B-10) form indicating what urbanized areas and rural areas they serve, and also to complete their Federal Funding Allocation (FFA-10) form distributing their service data across those urbanized and rural areas. In implementing the 2010 Census, FTA required transit systems to complete only one FFA-10 form for the 2011 annual report (76 FR 30997). Transit systems were not required to complete an FFA-10 form based on the UZA definitions from the 2000 Census. Instead, transit systems filled out one FFA-10 form for their 2011 annual report during the summer of 2012, following the release of the 2010 Census UZA definitions in spring 2012.

In 2021, the Census Bureau announced that the new UZA definitions from the 2020 Census will not be released until summer 2022 or later. These UZA definitions are necessary for the NTD to create apportionment files. Federal law requires FTA to use the most recent urbanized area definitions from the Census Bureau (49 U.S.C. 5302(23)) in formula funding apportionments.

For the 2021 annual report, NTD reporters have already begun completing an initial FFA-10 and B-10 forms using existing 2010 Census definitions. For Report Year 2021, FTA proposes to require transit systems to submit the B-10 and FFA-10 forms using 2010 Census data by the normal NTD annual report deadline. If the Census Bureau releases new urbanized area definitions prior to October 1, 2022, FTA would require transit operators to submit new B-10 and FFA-10 forms using 2020 Census data as an addendum to the annual report. Collecting this addendum based on 2020 Census data is necessary to allow FTA to meet the UZA definition found in 49 U.S.C. 5302(23) and produce apportionment data files that support the apportionment of formula funds. If the Census Bureau releases new urbanized area definitions on or after October 1, 2022, then FTA would not require the form addendum and would instead integrate the new urbanized area definitions into the 2022 reporting process.

To minimize reporting burden, transit operators will not have to fill in the addendum from scratch. The addendum will pull in as much data as possible from the initial FFA-10 and B-10 forms completed using 2010 Census UZA definitions, based on unchanged or minimally changed UZA boundaries.

Nuria I. Fernandez,
Administrator.

[FR Doc. 2022-00851 Filed 1-18-22; 8:45 am]

BILLING CODE P